SUSQUEHANNA RIVER BASIN COMMISSION

Public Hearing

AGENCY: Susquehanna River Basin Commission.

ACTION: Notice.

SUMMARY: The Susquehanna River Basin Commission will hold a public hearing on August 11, 2022. The Commission will hold this hearing in-person and telephonically. At this public hearing, the Commission will hear testimony on the projects listed in the Supplementary Information section of this notice. The Commission will also hear testimony on two proposed policies, SRBC Civil Penalty Matrix and Policy and Guidance Statement for the Settlement of Civil Penalties/Enforcement Actions. Such projects and proposals are intended to be scheduled for Commission action at its next business meeting, tentatively scheduled for September 15, 2022, which will be noticed separately. The public should take note that this public hearing will be the only opportunity to offer oral comment to the Commission for the listed projects and proposals. The deadline for the submission of written comments is August 22, 2022.

DATES: The public hearing will convene on August 11, 2022, at 6:30 p.m. The public hearing will end at 9:00 p.m. or at the conclusion of public testimony, whichever is earlier. The deadline for the submission of written comments is Monday, August 22, 2022.

ADDRESSES: This public hearing will be conducted in-person and telephonically. You may attend in person at Susquehanna River Basin Commission, 4423 N Front St., Harrisburg, Pennsylvania or join by Conference Call #: 1-888-387-8686, Conference Room #: 917 968 6050.

FOR FURTHER INFORMATION CONTACT: Jason Oyler, General Counsel and Secretary to the Commission, telephone: (717) 238-0423 or joyler@srbc.net.

Information concerning the applications for the projects is available at the Commission's Water Application and Approval Viewer at https://www.srbc.net/waav. Information concerning the proposals can be found at https://www.srbc.net/about/meetings-events/. Additional supporting documents are available to inspect and copy in accordance with the Commission's Access to Records Policy at www.srbc.net/regulatory/policies-guidance/docs/access-to-records-policy-2009-02.pdf.

SUPPLEMENTARY INFORMATION: The Commission is proposing a revised SRBC Civil Penalty Matrix. This would replace the current Policy No. 96-01. The Commission is also proposing a revised Policy and Guidance Statement for the Settlement of Civil Penalties/Enforcement Actions. This would replace Policy No. 2000-01. In addition, the public hearing will cover the following projects:

Projects Scheduled for Action

1. Project Sponsor: Aqua Pennsylvania, Inc. Project Facility: Monroe Manor System, Monroe Township, Snyder County, Pa. Application for groundwater withdrawal of up to 0.482 mgd (30-day average) from Well 8.

2. Project Sponsor: Brunner Island, LLC. Project Facility: Brunner Island Steam Electric Station (Susquehanna River), East Manchester Township, York County, Pa. Applications for renewal of surface water withdrawal of up to 835.000 mgd (peak day) and consumptive use of up to 23.100 mgd (peak day) (Docket No. 20070908).

3. Project Sponsor and Facility: Chesapeake Appalachia, L.L.C. (Chemung River), Athens Township, Bradford County, Pa. Application for renewal of surface water withdrawal of up to 0.999 mgd (peak day) (Docket No. 20170902).

4. Project Sponsor and Facility: Chesapeake Appalachia, L.L.C. (Sugar Creek), Burlington Township, Bradford County, Pa. Application for renewal of surface water withdrawal of up to 0.499 mgd (peak day) (Docket No. 20170903).

5. Project Sponsor and Facility: Chesapeake Appalachia, L.L.C. (Towanda Creek), Leroy Township, Bradford County, Pa. Application for renewal of surface water withdrawal of up to 1.500 mgd (peak day) (Docket No. 20170905).

6. Project Sponsor and Facility: Coterra Energy Inc. (Meshoppen Creek), Springville Township, Susquehanna County, Pa. Application for renewal of surface water withdrawal of up to 0.750 mgd (peak day) (Docket No. 20170901).

7. Project Sponsor and Facility: Dover Township, York County, Pa. Applications for groundwater withdrawals (30-day averages) of up to 0.360 mgd from Well 8 and up to 0.088 mgd from Well 10 (Docket No. 19911104).

8. Project Sponsor and Facility: Edgewood by Sand Springs, LLC, Butler Township, Luzerne County, Pa. Modification to extend the approval term of the surface water withdrawal and consumptive use approval (Docket No. 19980102) by 2 years to allow the project to complete planning and permitting to redevelop the property and cease golf course operations.

9. Project Sponsor: Lancaster County Solid Waste Management Authority. Project Facility: Frey Farm and Creswell Landfills, Manor Township, Lancaster County, Pa. Modification to increase consumptive use (peak day) by an additional 0.030 mgd, for a total consumptive use of up to 0.095 mgd, addition of approved sources of water for consumptive use, and General Permit GP-01 Notice of Intent for groundwater remediation (Docket No. 20061208).

10. Project Sponsor: Maplemoor, Inc. Project Facility: Huntsville Golf Club, Lehman Township, Luzerne County, Pa. Application for renewal of consumptive use of up to 0.499 mgd (30-day average) (Docket No. 19920909).

11. Project Sponsor and Facility: Pennsylvania Grain Processing LLC (West Branch Susquehanna River), Clearfield Borough, Clearfield County, Pa. Applications for renewal of surface water withdrawal of up to 2.505 mgd (peak day) and for consumptive use of up to 2.000 mgd (peak day) (Docket No. 20070904).

12. Project Sponsor: Pine Grove Borough. Project Facility: Pine Grove Borough Water System, Tremont Township, Schuylkill County, Pa. Applications for groundwater withdrawals (30-day averages) of up to 0.499 mgd from Well 16 and up to 0.097 mgd from Well 17.

13. Project Sponsor and Facility: Seneca Resources Company, LLC (Elk Run), Sullivan Township, Tioga County, Pa. Application for renewal of surface water withdrawal of up to 0.646 mgd (peak day) (Docket No. 20170909).

14. Project Sponsor and Facility: Shrewsbury Borough, Shrewsbury Township and Shrewsbury Borough, York County, Pa. Applications for renewal of groundwater withdrawals (30-day averages) of up to 0.099 mgd from the Meadow Well and 0.180 mgd from the Village Well (Docket Nos. 19890501 and 19900105).

15. Project Sponsor and Facility: South Middleton Township Municipal Authority, Monroe Township, Cumberland County, Pa. Application for renewal of groundwater withdrawal with increase from 0.624 mgd to up to 0.936 mgd (30-day average) from Well 3 (Docket No. 19880404).

16. Project Sponsor and Facility: Susquehanna Gas Field Services, LLC (Meshoppen Creek), Meshoppen Borough, Wyoming County, Pa. Application for renewal of surface water withdrawal of up to 0.145 mgd (peak day) (Docket No. 20170908).

17. Project Sponsor and Facility: SWN Production Company, LLC (Wyalusing Creek), Wyalusing Township, Bradford County, Pa. Application for renewal of surface water withdrawal of up to 2.000 mgd (peak day) (Docket No. 20170910).

18. Project Sponsor and Facility: Town of Conklin, Broome County, N.Y. Applications for renewal of groundwater withdrawals (30-day averages) of up to 0.350 mgd from Well 5 and up to 0.350 mgd from Well 6 (Docket Nos. 20070601 and 20031001, respectively).

19. Project Sponsor: Town of Oneonta. Project Facility: Southside Water System, Town of Oneonta, Otsego County, N.Y. Applications for groundwater withdrawals (30-day averages) of up to 0.720 mgd from Well PW-1 and up to 0.720 mgd from Well PW-2.

20. Project Sponsor and Facility: Village of Horseheads, Town of Horseheads, Chemung County, N.Y. Application for renewal of groundwater withdrawal of up to 1.440 mgd (30-day average) from Well 5 (Docket No. 19870302).

Opportunity To Appear and Comment

Interested parties may call into the hearing to offer comments to the Commission on any business listed above required to be the subject of a public hearing. Given the nature of the meeting, the Commission strongly encourages those members of the public wishing to provide oral comments to pre-register with the Commission by emailing Jason Oyler at joyler@srbc.net prior to the hearing date. The presiding officer reserves the right to limit oral statements in the interest of time and to otherwise control the course of the hearing. Access to the hearing via telephone will begin at 6:15 p.m. Guidelines for the public hearing are posted on the Commission's website, www.srbc.net, prior to the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before August 22, 2021, to be considered.

Authority: Pub. L. 91-575, 84 Stat. 1509 et seq., 18 CFR parts 806, 807, and 808.

Dated: July 7, 2022.
Jason E. Oyler,
General Counsel and Secretary to the Commission.

[FR Doc. 2022-14805 Filed 7-11-22; 8:45 am]

BILLING CODE 7040-01-P